DEPARTMENT OF THE INTERIOR

Bureau of Reclamation

Navajo Unit, Colorado River Storage Project, New Mexico and Colorado

AGENCY: Bureau of Reclamation, Interior.

ACTION: Notice of extension of public comment period for 30 days.

SUMMARY: Notice is hereby given that the comment period for the Navajo Reservoir Operations Draft Environmental Impact Statement is extended an additional 30 days to December 4, 2002. The end of the public comment period, as noted in the September 4, 2002, Federal Register (67 FR 56580) was November 4, 2002.

DATES: The public comment period is now extended to December 4, 2002.

ADDRESSES: Written comments on the DEIS should be addressed to Ken Beck, Bureau of Reclamation, Western Colorado Area Office, 835 East Second Avenue, Suite 400, Durango, Colorado 81301; telephone (970) 385-6558; faxogram (970) 385-6539; e-mail: navcomments@uc.usbr.gov. Our practice is to make comments, including names and home addresses of respondents, available for public review. Individual respondents may request that we withhold their home address from public disclosure, which we will honor to the extent allowable by law. If you wish us to withhold your name and/or address, you must state this prominently at the beginning of your comment. We will make all submissions from organizations or businesses, and from individuals identifying themselves as representatives or officials of organizations or businesses, available for public disclosure in their entirety.

FOR FURTHER INFORMATION CONTACT: Ken Beck, Bureau of Reclamation, Western Colorado Area Office, 835 East Second Avenue, Suite 400, Durango, Colorado 81301, telephone (970) 385-6558.

Dated: October 9, 2002.
Errol Bartholomew,
Acting Regional Director, Upper Colorado Region.

[FR Doc. 02-27544 Filed 10-29-02; 8:45 am]

BILLING CODE 4310-MN-P